SMALL BUSINESS ADMINISTRATION

Public Federal Regulatory Enforcement Fairness Hearing; Region V Regulatory Fairness Board

The U.S. Small Business Administration (SBA) Region V Regulatory Fairness Board and the SBA Office of the National Ombudsman will hold a public hearing on Wednesday, March 29, 2006, at 9 a.m. The meeting will take place at the Hamilton County Business Center, 1776 Mentor Avenue, Cincinnati, OH to receive comments and testimony from small business owners, small government entities, and small non-profit organizations concerning regulatory enforcement and compliance actions taken by Federal agencies.

Anyone wishing to attend or to make a presentation must contact Ronald Carlson, in writing or by fax, in order to be put on the agenda. Ronald Carlson, Branch Manager, SBA, Cincinnati Branch Office, 550 Main Street, Room 2-522, Cincinnati, OH 45202, phone (513) 684-2814, Ext. 205, fax (515) 684-3251, e-mail: Ronald.carlson@sba.gov.

For more information, see our Web site at http://www.sba.gov/ombudsman.

Sincerely,
Matthew K. Becker,
Committee Management Officer.

[FR Doc. E6-3950 Filed 3-17-06; 8:45 am]

BILLING CODE 8025-01-P